DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury's Office of Foreign Assets Control (“OFAC”) is publishing the names of ten individuals and one entity whose property and interests in property have been unblocked pursuant to Executive Order 12978 of October 21, 1995, “Blocking Assets and Prohibiting Transactions With Significant Narcotics Traffickers”.

DATES: The unblocking and removal from the list of Specially Designated Nationals and Blocked Persons (“SDN List”) of the ten individuals and one entity identified in this notice whose property and interests in property were blocked pursuant to Executive Order 12978 of October 21, 1995, is effective on June 28, 2012.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

This document and additional information concerning OFAC are available from OFAC's Web site (www.treasury.gov/ofac) or via facsimile through a 24-hour fax-on demand service at (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On June 28, 2012, the Director of OFAC removed from the SDN List the ten individuals and one entity listed below, whose property and interests in property were blocked pursuant to the Order:

Individuals

1. BENAVIDES MONTENEGRO, Sandra Patricia, c/o ESPIBENA S.A., Quito, Ecuador; RUC # 0400778890 (Ecuador) (individual) [SDNT].

2. CASTANEDA GIRALDO, Maria Teresa (a.k.a. CASTANEDA DE PABON, Maria Teresa), c/o INVERSIONES MPS S.A., Bogota, Colombia; c/o PROYECTOS Y SOLUCIONES INMOBILIARIA LTDA., Bogota, Colombia; c/o GERENCIA DE PROYECTOS Y SOLUCIONES LTDA., Bogota, Colombia; DOB 3 Aug 1957; POB Colombia; Cedula No. 35455961 (Colombia) (individual) [SDNT].

3. CURREA CORREA, Carlos Alberto (a.k.a. “CUCU”; a.k.a. “LA LLAVERIA”), Calle 24 No. 20-22, Tulua, Valle, Colombia; Spain; citizen Colombia; nationality Colombia; Cedula No. 16347900 (Colombia) (individual) [SDNT].

4. GARCIA VASQUEZ, Omaira, Avenida 2 Norte No. 2N-36, Edif. Campanari Ofc. 340, Cali, Colombia; c/o FINVE S.A., Bogota, Colombia; c/o UNIDAS S.A., Cali, Colombia; DOB 26 Jan 1961; POB Cali, Valle, Colombia; Cedula No. 31870497 (Colombia); Passport 31870497 (Colombia) (individual) [SDNT].

5. GOMEZ VIVAS, Manuel Antonio, c/o GANADERA LTDA., Cali, Colombia; DOB 3 Sep 1963; Cedula No. 79291814 (Colombia) (individual) [SDNT].

6. PELISSIER OSPINA, Maria Sair (a.k.a. PELISSIER OSPINA, Maria Sahir), c/o ALMACAES S.A., Bogota, Colombia; c/o COMERCIALIZADORA PELISSIER OSPINA LTDA., Bogota, Colombia; c/o CORPORACION DE ALMACENES POR DEPARTAMENTOS S.A., Bogota, Colombia; c/o G.L.G. S.A., Bogota, Colombia; c/o HEBRON S.A., Tulua, Valle, Colombia; c/o ILOVIN S.A., Bogota, Colombia; c/o RAMAL S.A., Bogota, Colombia; Carrera 58B No. 63B-96 B-21 E-8 Int. 15 apt. 201, Bogota, Colombia; Carrera 68D No. 64F-96 B-21 Int. 15, Bogota, Colombia; DOB 20 Jun 1958; POB Ibague, Tolima, Colombia; Cedula No. 51561790 (Colombia) (individual) [SDNT].

7. RIVERA LEDESMA, Ruben Manuel, c/o ADMINISTRADORA DE SERVICIOS VARIOS CALIMA S.A., Cali, Colombia; c/o CHAMARTIN S.A., Cali, Colombia; c/o ASISTENCIA PROFESIONAL ESPECIALIZADA EN COLOMBIA LIMITADA, Cali, Colombia; Cedula No. 14886120 (Colombia); Passport 14886120 (Colombia) (individual) [SDNT].

8. RODAS CASTANO, Luis Alberto, c/o CONSTRUCCIONES ASTRO S.A., Cali, Colombia; c/o COMERCIALIZACION Y FINANCIACION DE AUTOMOTORES S.A., Cali, Colombia; DOB 11 Sep 1959; Cedula No. 16630332 (Colombia) (individual) [SDNT].

9. RODRIGUEZ ARBELAEZ, Maria Fernanda, c/o INTERAMERICANA DE CONSTRUCCIONES S.A., Cali, Colombia; c/o RIONAP COMERCIO Y REPRESENTACIONES S.A., Quito, Ecuador; c/o INVERSIONES ARA LTDA., Cali, Colombia; c/o DISTRIBUIDORA DE DROGAS LA REBAJA S.A., Bogota, Colombia; c/o DROGAS LA REBAJA BOGOTA S.A., Bogota, Colombia; c/o DEPOSITO POPULAR DE DROGAS S.A., Cali, Colombia; c/o D'CACHE S.A., Cali, Colombia; c/o PRODUCCIONES CARNAVAL DEL NORTE Y COMPANIA LIMITADA, Cali, Colombia; c/o VALORES MOBILIARIOS DE OCCIDENTE S.A., Cali, Colombia; c/o CREDIREBAJA S.A., Cali, Colombia; c/o ASISTENCIA PROFESIONAL ESPECIALIZADA EN COLOMBIA LIMITADA, Cali, Colombia; c/o BONOMERCAD S.A., Bogota, Colombia; c/o CUSTOMER NETWORKS S.L., Madrid, Spain; c/o DECAFARMA S.A., Bogota, Colombia; c/o DROCARD S.A., Bogota, Colombia; c/o INVERSIONES ESPANOLES FEMCAR S.L., Madrid, Spain; c/o FUNDASER, Cali, Colombia; DOB 28 Nov 1973; alt. DOB 28 Aug 1973; Cedula No. 66860965 (Colombia); N.I.E. X2566947-D (Spain); Passport AC568974 (Colombia); alt. Passport 66860965 (Colombia) (individual) [SDNT].

10. TABARES BEDOYA, Carlos Eduardo, c/o ADMINISTRADORA DE SERVICIOS VARIOS CALIMA S.A., Cali, Colombia; c/o ASISTENCIA PROFESIONAL ESPECIALIZADA EN COLOMBIA LIMITADA, Cali, Colombia; c/o CHAMARTIN S.A., Cali, Colombia; DOB 10 Sep 1970; Cedula No. 16791397 (Colombia); Passport 16791397 (Colombia) (individual) [SDNT].

Entity

1. COMERCIALIZADORA PELISSIER OSPINA LTDA., Carrera 58B No. 63B-96 bq. 21 int. 15 apto. 201, Bogota, Colombia; NIT # 830009052-5 (Colombia) [SDNT].

Dated: June 29, 2012.
Adam J. Szubin,
Director, Office of Foreign Assets Control.

[FR Doc. 2012-17172 Filed 7-12-12; 8:45 am]

BILLING CODE 4810-AL-P